SOCIAL SECURITY ADMINISTRATION

[Docket No. SSA-2022-0063]

Retirement and Disability Research Consortium Cooperative Agreement

AGENCY: Social Security Administration (SSA).

ACTION: Notice.

SUMMARY: We anticipate issuing a request for applications (RFA) for the Retirement and Disability Research Consortium (RDRC) in early 2023. The program will address issues surrounding the Old Age and Survivors Insurance (OASI), Disability Insurance (DI), and Supplemental Security Income (SSI) programs and related retirement and disability policy issues.

FOR FURTHER INFORMATION CONTACT: Matt Messel, Office of Research, Evaluation, and Statistics, Social Security Administration, 737-291-8285, email: Matt.Messel@ssa.gov.

SUPPLEMENTARY INFORMATION: We anticipate issuing a request for applications (RFA) for the Retirement and Disability Research Consortium (RDRC) in early 2023. The program will address issues surrounding the Old Age and Survivors Insurance (OASI), Disability Insurance (DI), and Supplemental Security Income (SSI) programs and related retirement and disability policy issues.

We intend to award 5-year cooperative agreements to research centers who will conduct relevant research addressing issues in Social Security, retirement, and disability policy. These centers may be universities or other organizations or associations of multiple universities and other organizations in the United States.

Our Grants Management Official (GMO) anticipates using the policies in 2 CFR 200 in conjunction with the policies and procedures for solicitation, evaluation, and award prescribed in SSA's Grants Administration Manual. We anticipate the multiple cooperative agreements that we award may cover September 2023 through September 2028. Section 1110 of the Social Security Act authorizes these cooperative agreements. Awards will be made under full and open competition.

The following is an estimated timeline of actions associated with this requirement:

Action | Date ¹
Release of RFA package | On or about February 2023.
Notice of Intent Due Date (Optional) | On or about April 2023.
Application Due Date | On or about May 2023.
Anticipated Award(s) | On or about September 2023.
¹ Dates may change based upon administrative approval.

The GMO will publish the agency's RFA, along with any amendments, and relevant questions and answers, electronically through the government-wide point of entry at www.grants.gov. Interested parties can sign up for notifications of funding opportunities at: https://www.grants.gov/web/grants/manage-subscriptions.html.

The Acting Commissioner of Social Security, Kilolo Kijakazi, Ph.D., M.S.W., having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2023-01634 Filed 1-26-23; 8:45 am]

BILLING CODE 4191-02-P